DEPARTMENT OF ENERGY

Federal Energy Regulatory Commission

Combined Notice of Filings

Take notice that the Commission has received the following Natural Gas Pipeline Rate and Refund Report filings:

Filings Instituting Proceedings

Docket Numbers: RP18-1104-001.

Applicants: Rockies Express Pipeline LLC.

Description: Tariff Amendment: Second Errata to Administrative Updates to FERC Gas Tariff to be effective 10/1/2018.

Filed Date: 9/13/18.

Accession Number: 20180913-5001.

Comments Due: 5 p.m. ET 9/25/18.

Docket Numbers: RP18-1168-000.

Applicants: Bear Creek Storage Company, L.L.C.

Description: § 4(d) Rate Filing: Operational Transactions Provisions Tariff Filing to be effective 10/12/2018.

Filed Date: 9/12/18.

Accession Number: 20180912-5015.

Comments Due: 5 p.m. ET 9/24/18.

Docket Numbers: RP18-1169-000.

Applicants: HG Energy, LLC,Westmoreland Gas, LLC.

Description: Joint Petition for Temporary Waivers of Capacity Release Regulations and Policies, et al. of HG Energy, LLC, et al. under RP18-1169.

Filed Date: 9/12/18.

Accession Number: 20180912-5072.

Comments Due: 5 p.m. ET 9/19/18.

Docket Numbers: RP18-1170-000.

Applicants: Algonquin Gas Transmission, LLC.

Description: Compliance filing AGT September 2018 OFO Penalty Disbursement Report to be effective N/A.

Filed Date: 9/12/18.

Accession Number: 20180912-5154.

Comments Due: 5 p.m. ET 9/24/18.

Docket Numbers: RP18-1171-000.

Applicants: Kinetica Deepwater Express, LLC.

Description: eTariff filing per 1430: Request for Extension of Time for Filing Form 501-G to be effective N/A.

Filed Date: 9/13/18.

Accession Number: 20180913-5014.

Comments Due: 5 p.m. ET 9/25/18.

Docket Numbers: RP18-1172-000.

Applicants: Kinetica Energy Express, LLC.

Description: eTariff filing per 1430: Request for Extension of Time for Filing Form 501-G to be effective N/A.

Filed Date: 9/13/18.

Accession Number: 20180913-5015.

Comments Due: 5 p.m. ET 9/25/18.

Docket Numbers: RP18-1173-000.

Applicants: Texas Eastern Transmission, LP.

Description: § 4(d) Rate Filing: Gulf Markets—Global LNG and Marubeni Non-Conf Agreements to be effective 9/14/2018.

Filed Date: 9/13/18.

Accession Number: 20180913-5025.

Comments Due: 5 p.m. ET 9/25/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 13, 2018.
Nathaniel J. Davis, Sr.,
Deputy Secretary.

[FR Doc. 2018-20355 Filed 9-18-18; 8:45 am]

BILLING CODE 6717-01-P